POSTAL SERVICE

39 CFR Part 111

Proposed Eligibility Criteria for Bound Printed Matter Parcels

AGENCY: Postal Service™.

ACTION: Advance notice of proposed rulemaking.

SUMMARY: The Postal Service is considering the adoption of a new criterion for eligibility of Bound Printed Matter (BPM) parcels by adding a physical density threshold for individual mailpieces.

DATES: Comments on this advance notice are due September 10, 2012.

ADDRESSES: Mail or deliver written comments to the manager, Product Classification, U.S. Postal Service, 475 L'Enfant Plaza SW., Room 4446, Washington, DC 20260-5015. You may inspect and photocopy all written comments at USPS® Headquarters Library, 475 L'Enfant Plaza SW., 11th Floor North, Washington, DC, by appointment only between the hours of 9 a.m. and 4 p.m., Monday through Friday. Call 1-202-268-2906 in advance for an appointment. Email comments, containing the name and address of the commenter, may be sent to: MailingStandards@usps.gov, with a subject line of “New Eligibility for BPM Parcels.” Faxed comments are not accepted.

FOR FURTHER INFORMATION CONTACT: Kayla Dobbs at 202-268-6753, or Wm. Kevin Gunther at 202-268-7208.

SUPPLEMENTARY INFORMATION: BPM parcels is an economical ground-based product containing qualifying bound printed matter, weighing no more than 15 pounds and requiring postage payment by permit imprint. BPM is primarily used by commercial shippers who do not require expedited delivery. This product is not available for purchase at Post Office™ retail units and is not typically used by non-business mailers.

Statutory requirements under title 39, U.S. Code, require that each class of mail or type of mail service bear the direct and indirect costs attributable to that class or service. In this regard, the Postal Service expenses related to the BPM parcel product continues to exceed the revenues generated by its sales. In fiscal year 2011, BPM parcels realized a 98.8% cost coverage.

Greater efficiency in the packaging of BPM parcels will provide for more expedient handling of BPM parcels and will contribute to the cost coverage of the BPM product. To that end, the Postal Service is considering the implementation of a new minimum mailpiece density requirement for BPM parcels, with an effective date targeted for July, 2013.

Less densely prepared parcels also tend to result in a higher incidence of conveyance problems on automated parcels processing equipment, increasing the need for extra handling.

If the Postal Service proceeds with its plan to adopt a new density eligibility requirement for BPM parcels, parcels will be required to meet or exceed the minimum physical density threshold to qualify for BPM parcel pricing. The proposed density requirement will not be applicable to Bound Printed Matter flats.

The principal intent of the Postal Service in proposing this new requirement is to provide guidance for mailers to improve the efficiency and effectiveness in the packaging of BPM parcels. The Postal Service also hopes to provide a mechanism for mailers to self-regulate the content of BPM parcels, as books and similar printed matter are naturally dense products.

To calculate density, first the length, height and width of each parcel is measured in inches, and then multiplied to obtain cubic inches. To determine the volume in cubic feet, the cubic inches product is then divided by 1,728 (cubic inches in a cubic foot). The weight of the mailpiece, in pounds, is then divided by the product of the prior calculation (the mailpiece volume in cubic feet) to yield a density value of the parcel, measured in pounds/cubic foot. For example, the density of a BPM parcel weighing 10 pounds and measuring 12 inches in length, 8 inches in height, 10 inches in width, would have a density of approximately 17.9 pounds/cubic foot, calculated as follows: 12 × 8 × 10 = 960 cubic inches, 960/1728 = .56 cubic feet, 10/.56 = 17.9 pounds/cubic foot. If this standard is adopted, to be eligible for BPM pricing, parcels must demonstrate a density of at least 10.0 pounds/cubic foot. BPM parcels with densities under 10.0 pounds/cubic foot would not be eligible for BPM parcel pricing. When parcels intended for mailing at BPM prices are identified as falling below the minimum density threshold, the mailer will be provided with the option either to repackage the contents more efficiently to meet the minimum density requirement, or mail the item using another mail class as applicable.

Stanley F. Mires,
Attorney, Legal Policy & Legislative Advice.

[FR Doc. 2012-18085 Filed 7-24-12; 8:45 am]

BILLING CODE 7710-12-P